DEPARTMENT OF LABOR

Employment and Training Administration

[TA-W-60,862]

Springs Global, Hartwell Weaving and Yarn, Hartwell, GA; Notice of Termination of Investigation

Pursuant to Section 221 of the Trade Act of 1974, as amended, an investigation was initiated on January 31, 2007 in response to a petition filed by a company official on behalf of workers at Springs Global, Hartwell Weaving and Yarn, Hartwell, Georgia.

The petitioner has requested that the petition be withdrawn. Consequently, the investigation has been terminated.

Signed in Washington, DC, this 13th day of February 2007.
Linda G. Poole,
Certifying Officer, Division of Trade Adjustment Assistance.

[FR Doc. E7-3273 Filed 2-26-07; 8:45 am]

BILLING CODE 4510-FN-P